DEPARTMENT OF LABOR

Employment and Training Administration

[TA-W-56,152 and TA-W-56,152A]

Flowline Division, of Markovitz Enterprises, Inc., New Castle, PA; Flowline Division, of Markovitz Enterprises, Inc., Whiteville, NC; Notice of Determinations Regarding Application for Reconsideration

By application of February 24, 2005 a company official requested administrative reconsideration of the Department's negative determination regarding eligibility for workers and former workers of the subject firms to apply for Trade Adjustment Assistance (TAA) and Alternative Trade Adjustment Assistance (ATAA). The denial notice was signed on January 13, 2005 and published in the Federal Register on February 7, 2005 (70 FR 6459).

The TAA petition, filed on behalf of workers at Flowline Division of Markovitz Enterprises, Inc., New Castle, Pennsylvania (TA-W-56,152) and Flowline Division of Markovitz Enterprises, Inc., Whiteville, North Carolina (TA-W-56,152A) engaged in production of stainless steel butt-weld fittings was denied because the criteria (a)(2)(A)(I.B) and (a)(2)(B)(II.B) Section 222 of the Trade Act of 1974 were not met. Firm's sales and production for stainless steel butt-weld fittings increased from January through November of 2004 when compared to the same period in 2003. The firm did not shift production of stainless steel butt-weld fittings to a foreign country during the relevant period.

In the request for reconsideration, the petitioner requested an additional analysis of the subject firm's sales, production and employment during the relevant time period.

The Department requested additional information regarding the dates of the separations of the workers of the subject firm in order to establish the relevant base period for sales and production. The review of the obtained information established the fact that the majority of the layoffs at Flowline Division of Markovitz Enterprises, Inc., New Castle, Pennsylvania occurred in the first quarter of 2004. Consequently, sales, production and imports for 2002 and 2003 are relevant in this case. It was further revealed that sales and production declined significantly from 2002 to 2003. Furthermore, the investigation revealed that the subject firm increased its imports of stainless steel butt-weld fittings during the relevant time period.

The reconsideration established that only one worker was separated from Flowline Division of Markovitz Enterprises, Inc., Whiteville, North Carolina (TA-W-56,152A) during the relevant time period. This fact was not documented during the original investigation based on the information provided by the company official.

When assessing eligibility for TAA, the Department makes its determinations based on the requirements as outlined in Section 222 of the Trade Act. The investigation revealed that Flowline Division of Markovitz Enterprises, Inc., Whiteville, North Carolina did not separate or threaten to separate a significant number or proportion of workers as required by Section 222 of the Trade Act of 1974. Significant number or proportion of the workers in a firm or appropriate subdivision thereof, means that at least three workers with a workforce of fewer than 50 workers, five percent of the workers with a workforce over 50 workers, or fifty workers. As the total separated worker number was one during the relevant period, workers of Flowline Division of Markovitz Enterprises, Inc., Whiteville, North Carolina do not meet the group eligibility requirements for trade adjustment assistance.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the worker group must be certified eligible to apply for trade adjustment assistance (TAA), and the group eligibility requirements of Section 246 of the Trade Act must be met.

Since the workers of Flowline Division of Markovitz Enterprises, Inc., Whiteville, North Carolina (TA-W-56,152A) are denied eligibility to apply for TAA, the workers cannot be certified eligible for ATAA.

The Department further determined that the requirements of Section 246 have been met for workers of Flowline Division of Markovitz Enterprises, Inc., New Castle, Pennsylvania (TA-W-56,152). A significant number of workers at the firm are age 50 or over and possess skills that are not easily transferable. Competitive conditions within the industry are adverse.

Conclusion

After careful review of the facts obtained in the investigation, I determine that increases of imports of articles like or directly competitive with articles produced by Flowline Division of Markovitz Enterprises, Inc., New Castle, Pennsylvania (TA-W-56,152) contributed importantly to the total or partial separation of workers and to the decline in sales or production at that firm or subdivision. In accordance with the provisions of the Act, I make the following certification:

“All workers of the Flowline Division of Markovitz Enterprises, Inc., New Castle, Pennsylvania (TA-W-56,152), who became totally or partially separated from employment on or after December 2, 2003 through two years from the date of this certification, are eligible to apply for adjustment assistance under Section 223 of the Trade Act of 1974, and are eligible to apply for alternative trade adjustment assistance under Section 246 of the Trade Act of 1974.”

and;

“I further determine that all workers at Flowline Division of Markovitz Enterprises, Inc., Whiteville, North Carolina (TA-W-56,152A) are denied eligibility to apply for adjustment assistance under Section 223 of the Trade Act of 1974 and are denied eligibility to apply for alternative trade adjustment assistance under Section 246 of the Trade Act of 1974.”

Signed at Washington, DC, this 14th day of April, 2005.
Elliott S. Kushner,
Certifying Officer, Division of Trade Adjustment Assistance.

[FR Doc. E5-2075 Filed 4-29-05; 8:45 am]

BILLING CODE 4510-30-P